DEPARTMENT OF HEALTH AND HUMAN SERVICES

Centers for Disease Control and Prevention

[30 DAY-24-01]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project: NIOSH Research Study for the Prevention of Work-related Musculoskeletal Disorders (MSDs)—New—National Institute for Occupational Safety and Health (NIOSH), Centers for Disease Control and Prevention (CDC). The mission of the National Institute for Occupational Safety and Health (NIOSH) is to promote safety and health at work for all people through research and prevention. There is evidence of causal relationships between physical job stressors (e.g., repetitive or static exertion, forcefulness, awkward postures) and MSDs, and some quantitative information is available on how much rates of MSDs change at varying levels of exposure to each stressor and combination of stressors (exposure-response relationships). Additional information would foster the further development of effective strategies for prevention.

A research project is proposed to conduct a prospective cohort study to quantify the risk for upper limb and low back MSDs at varying levels of exposure to physical job stressors (repetitive, forceful exertion, awkward postures, vibration, manual handling, etc.). This research will involve multiple work sites from the service and manufacturing industries with job tasks that represent a range of exposures to physical job stressors that can result in musculoskeletal disorders of the upper limb (e.g., carpal tunnel syndrome, hand-wrist tendinitis, medial and lateral epicondylitis, hand-arm vibration syndrome (HAVS)) and low back disorders. Because of the limitations of cross-sectional and retrospective studies, it is widely agreed that a prospective study design is the best approach for the investigation of this problem. Up to 2000 workers will be enrolled into the study and will participate in three annual data collection surveys. The surveys will be comprised of a self-administered questionnaire and standard health tests to identify MSDs, including HAVS. Job tasks will be studied using uniform exposure assessment methods to quantify physical stressors. The study data will be used to test and expand existing guidelines for limiting exposure to physical job stressors, and for developing new guidelines where none exist. The results from this research study will provide practitioners in occupational health critical data that will facilitate their ability to quickly and reliably discriminate job tasks that represent low, moderate and high risk for MSDs among workers employed across different industries. In addition, the results of this study will provide guidance on effective job design to reduce the burden of work-related MSDs. The total estimated annual burden for this data collection is 1,993 hours.

Data collection activity | Number of respondents | Number of responses per respondents | Response per hour
Study Announcement Response | 100 | 1 | 15/60
Questionnaire Administration:
Core Questionnaire | 2,100 | 3 | 45/60
Work Environment Module | 2,100 | 3 | 15/60
Back Module | 200 | 3 | 6/60
HAVS Module | 400 | 2 | 45/60
Intervention Module | 225 | 4 | 6/60
Physical Examination:
Upper Limb MSDs | 1,000 | 3 | 45/60
Hand-Arm Vibration Syndrome | 400 | 2 | 2.00
Lumbar Motion Functional Assessment | 200 | 3 | 30/60

Dated: April 6, 2001.
Nancy E. Cheal,
Acting Associate Director for Policy, Planning and Evaluation, Centers for Disease Control and Prevention (CDC).

[FR Doc. 01-9072 Filed 4-11-01; 8:45 am]

BILLING CODE 4163-18-P